DEPARTMENT OF AGRICULTURE

Office of the Secretary

5 CFR LXXIII

7 CFR Subtitle A, Chs. I-XI, XIV-XVIII, XX, XXVI-XXXVIII, XLI-XLII, L

9 CFR Chs. I-III

36 CFR Ch. II

48 CFR Ch. 4

Semiannual Regulatory Agenda, Spring 2011

AGENCY: Office of the Secretary, USDA.

ACTION: Semiannual regulatory agenda.

SUMMARY: This agenda provides summary descriptions of significant and non significant regulations being developed in agencies of the U.S. Department of Agriculture (USDA) in conformance with Executive Order 12866, “Regulatory Planning and Review.”

USDA has attempted to list all regulations and regulatory reviews pending at the time of publication, except for minor and routine or repetitive actions, but some may have been inadvertently missed. There is no legal significance to the omission of an item from this listing. Also, the dates shown for the steps of each action are estimated and are not commitments to act on or by the date shown.

USDA's complete regulatory agenda is available online at http://www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

FOR FURTHER INFORMATION CONTACT: For further information on any specific entry shown in this agenda, please contact the person listed for that action. For general comments or inquiries about the agenda, please contact Michael Poe, Office of Budget and Program Analysis, U.S. Department of Agriculture, Washington, DC 20250, (202) 720-3257.

Dated: March 9, 2011.
Michael Poe,
Chief, Legislative and Regulatory Staff.

Agricultural Marketing Service—Proposed Rule Stage
Sequence No. | Title | Regulation Identifier No.
1 | Wholesale Pork Reporting Program | 0581-AD07
2 | National Organic Program, Periodic Pesticide Residue Testing, NOP-10-0102 | 0581-AD10

Agricultural Marketing Service—Final Rule Stage
Sequence No. | Title | Regulation Identifier No.
3 | National Organic Program, Sunset (2011) (Crops and Processing) (TM-07-0136) | 0581-AC77

Agricultural Marketing Service—Completed Actions
Sequence No. | Title | Regulation Identifier No.
4 | National Dairy Promotion and Research Program; Dairy Import Assessments, DA-08-0050 | 0581-AC87
5 | National Organic Program: Amendments to the National List (Crops, Livestock, and Processing) TM-09-0003 | 0581-AC91

Farm Service Agency—Final Rule Stage
Sequence No. | Title | Regulation Identifier No.
6 | Farm Loan Programs Loan Making Activities | 0560-AI03
7 | Conservation Loan Guarantee Program | 0560-AI04

Farm Service Agency—Long-Term Actions
Sequence No. | Title | Regulation Identifier No.
8 | Emergency Forest Restoration Program | 0560-AH89

Farm Service Agency—Completed Actions
Sequence No. | Title | Regulation Identifier No.
9 | Loan Servicing; Farm Loan Programs | 0560-AI05

Animal and Plant Health Inspection Service—Proposed Rule Stage
Sequence No. | Title | Regulation Identifier No.
10 | Animal Welfare: Marine Mammals; Nonconsensus Language, and Interactive Programs (Rulemaking Resulting From a Section 610 Review) | 0579-AB24
11 | Animal Welfare; Regulations and Standards for Birds | 0579-AC02
12 | Bovine Spongiform Encephalopathy; Importation of Bovines and Bovine Products | 0579-AC68
13 | Viral Hemorrhagic Septicemia; Interstate Movement and Import Restrictions on Certain Live Fish | 0579-AC74
14 | Scrapie in Sheep and Goats | 0579-AC92
15 | Plant Pest Regulations; Update of General Provisions | 0579-AC98
16 | Bovine Spongiform Encephalopathy and Scrapie; Importation of Small Ruminants and Their Germplasm, Products, and Byproducts | 0579-AD10

Animal and Plant Health Inspection Service—Final Rule Stage
Sequence No. | Title | Regulation Identifier No.
17 | Importation of Plants for Planting; Establishing a New Category of Plants for Planting Not Authorized for Importation Pending Pest Risk Analysis (Rulemaking Resulting From a Section 610 Review) | 0579-AC03
18 | Citrus Canker; Compensation for Certified Citrus Nursery Stock | 0579-AC05
19 | Handling of Animals; Contingency Plans | 0579-AC69
20 | Citrus Canker, Citrus Greening, and Asian Citrus Psyllid; Interstate Movement of Regulated Nursery Stock | 0579-AD29

Animal and Plant Health Inspection Service—Long-Term Actions
Sequence No. | Title | Regulation Identifier No.
21 | Phytophthora Ramorum; Quarantine and Regulations | 0579-AB82
22 | Introduction of Organisms and Products Altered or Produced Through Genetic Engineering | 0579-AC31
23 | Importation of Poultry and Poultry Products From Regions Affected With Highly Pathogenic Avian Influenza | 0579-AC36
24 | Light Brown Apple Moth Quarantine | 0579-AC71
25 | Citrus Greening and Asian Citrus Psyllid; Quarantine and Interstate Movement Regulations | 0579-AC85

Animal and Plant Health Inspection Service—Completed Actions
Sequence No. | Title | Regulation Identifier No.
26 | Boll Weevil; Quarantine and Regulations | 0579-AB91
27 | Animal Welfare; Climatic and Environmental Conditions for Transportation of Warm-Blooded Animals Other Than Marine Mammals | 0579-AC41
28 | Importation of Mexican Hass Avocados; Additional Shipping Options | 0579-AD15

Rural Housing Service—Final Rule Stage
Sequence No. | Title | Regulation Identifier No.
29 | Guaranteed Single-Family Housing | 0575-AC18

Food Safety and Inspection Service—Proposed Rule Stage
Sequence No. | Title | Regulation Identifier No.
30 | Mandatory Inspection of Catfish and Catfish Products | 0583-AD36

Food Safety and Inspection Service—Final Rule Stage
Sequence No. | Title | Regulation Identifier No.
31 | Performance Standards for the Production of Processed Meat and Poultry Products; Control of Listeria Monocytogenes in Ready-To-Eat Meat and Poultry Products | 0583-AC46

Food Safety and Inspection Service—Completed Actions
Sequence No. | Title | Regulation Identifier No.
32 | New Formulas for Calculating the Basetime, Overtime, Holiday, and Laboratory Services Rates; Rate Changes Based on the Formulas; and Increased Fees for the Accredited Laboratory Program | 0583-AD40

Forest Service—Proposed Rule Stage
Sequence No. | Title | Regulation Identifier No.
33 | Special Areas; State-Specific Inventoried Roadless Area Management: Colorado | 0596-AC74
34 | Pest and Disease Revolving Loan Fund | 0596-AC97

Office of the Secretary—Proposed Rule Stage
Sequence No. | Title | Regulation Identifier No.
35 | BioPreferred Program Guidelines Revisions | 0503-AA40

Office of the Secretary—Final Rule Stage
Sequence No. | Title | Regulation Identifier No.
36 | Designation of Biobased Items for Federal Procurement, Round 7 | 0503-AA36

Office of the Secretary—Completed Actions
Sequence No. | Title | Regulation Identifier No.
37 | Voluntary Labeling Program for Designated Biobased Products | 0503-AA35
38 | Designation of Biobased Items for Federal Procurement | 0503-AA39

BILLING CODE 3410-90-P

DEPARTMENT OF AGRICULTURE (USDA)

Agricultural Marketing Service (AMS)

Proposed Rule Stage

1. Wholesale Pork Reporting Program

Legal Authority: 7 U.S.C. 1635 to 1636

Abstract: On September 15, 2010, Congress passed the Mandatory Price Reporting Act of 2010 reauthorizing Livestock Mandatory Reporting for 5 years and adding a provision for mandatory reporting of wholesale pork cuts. The Act was signed by the President on September 28, 2010. Congress directed the Secretary to engage in negotiated rulemaking to make required regulatory changes for mandatory wholesale pork reporting. Further, Congress required that the negotiated rulemaking committee include representatives from (i) organizations representing swine producers; (ii) organizations representing packers of pork, processors of pork, retailers of pork, and buyers of wholesale pork; (iii) the Department of Agriculture; and (iv) among interested parties that participate in swine or pork production.

Timetable:

Action | Date | FR Cite
Changes to Livestock Mandatory Reporting | 11/24/10 | 75 FR 71568
Wholesale Pork Reporting; Notice of Meeting | 01/26/11 | 76 FR 4554
NPRM | 06/00/11 |
Final Action | 01/00/12 |

Regulatory Flexibility Analysis Required: Yes.

Agency Contact: Warren Preston, Department of Agriculture, Agricultural Marketing Service, 1400 Independence Avenue SW, Washington, DC 20250, Phone: 202 720-6231, Fax: 202 690-3732, E-mail: warren.preston@usda.gov.

RIN: 0581-AD07

2. National Organic Program, Periodic Pesticide Residue Testing, NOP-10-0102

Legal Authority: 7 U.S.C. 6501

Abstract: Under the Organic Foods Production Act (OFPA) of 1990, the National Organic Program is authorized to require pre-harvest residue testing for products sold or labeled as organic. This requirement is promulgated in section 205.670(b) of the NOP regulations which provides that the Secretary, state programs, and certifying agents may require pre-harvest or post-harvest testing of organic products when there is reason to believe that the product has come into contact with a prohibited substance or has been produced using excluded methods.

As a result of legal opinion received by the NOP on this issue, the NOP plans to publish a proposed rule that would amend regulations such that certifying agents would be required to conduct periodic testing of agricultural products that are to be sold, labeled or represented as “100 percent organic, organic”, or “made with organic (specified ingredients or food group(s))”. Specifically, the proposed rule would specify that certifying agents are required, on an annual basis, to randomly sample and test agricultural products from a minimum of 5 percent of the operations they certify.

Timetable:

Action | Date | FR Cite
NPRM | 06/00/11 |
Final Action | 03/00/12 |

Regulatory Flexibility Analysis Required: Yes.

Agency Contact: Melissa R. Bailey, Director, Standards Division, Department of Agriculture, Agricultural Marketing Service, Washington, DC 20250, Phone: 202 720-3252, Fax: 202 205-7808, E-mail: melissa.bailey@usda.gov.

RIN: 0581-AD10

DEPARTMENT OF AGRICULTURE (USDA)

Agricultural Marketing Service (AMS)

Final Rule Stage

3. National Organic Program, Sunset (2011) (Crops and Processing) (TM-07-0136)

Legal Authority: 7 U.S.C. 6501

Abstract: The Agricultural Marketing Service (AMS) is amending regulations pertaining to the National List of Allowed and Prohibited Substances. As required by the National Organic Foods Production Act of 1990, the allowed use of the 12 synthetic and non-synthetic substances in organic production and handling will expire on September 12, 2011. The AMS published an advance notice of proposed rulemaking to make the public aware of this requirement. AMS believes that public comment is essential in the review process to determine whether these substances should continue to be allowed or prohibited in the production and handling of organic agricultural products.

Timetable:

Action | Date | FR Cite
ANPRM | 03/14/08 | 73 FR 13795
ANPRM Comment Period End | 05/13/08 |
NPRM | 01/04/11 | 76 FR 288
NPRM Comment Period End | 02/03/11 |
Final Action | 08/00/11 |

Regulatory Flexibility Analysis Required: Yes.

Agency Contact: Melissa R. Bailey, Director, Standards Division, Department of Agriculture, Agricultural Marketing Service, Washington, DC 20250, Phone: 202 720-3252, Fax: 202 205-7808, E-mail: melissa.bailey@usda.gov.

RIN: 0581-AC77

DEPARTMENT OF AGRICULTURE (USDA)

Agricultural Marketing Service (AMS)

Completed Actions

4. National Dairy Promotion and Research Program; Dairy Import Assessments, DA-08-0050

Legal Authority: 7 U.S.C. 4501 to 4514; 7 U.S.C. 7401

Abstract: The Dairy Act authorizes the Order for dairy product promotion, research, and nutrition education as part of a comprehensive strategy to increase human consumption of milk and dairy products and to reduce milk surpluses. The program functions to strengthen the dairy industry's position in the marketplace by maintaining and expanding domestic and foreign consumption of fluid milk and dairy products. Amendments to the Order are pursuant to the 2002 and 2008 Farm Bills. The 2002 Farm Bill mandates that the Order be amended to implement an assessment on imported dairy products to fund promotion and research. The 2008 Farm Bill specifies a mandatory assessment rate of 7.5-cent per hundredweight of milk, or equivalent thereof, on dairy products imported into the United States. Additionally, in accordance with the 2008 Farm Bill, the term “United States” is the Dairy Act is amended to mean all States, the District of Columbia, and the Commonwealth of Puerto Rico. Producers in these areas will be assessed 15 cents per hundredweight for all milk produced and marketed.

Completed:

Reason | Date | FR Cite
Final Action | 03/18/11 | 76 FR 14777
Final Action Effective | 04/01/11 |

Regulatory Flexibility Analysis Required: Yes.

Agency Contact: Whitney Rick, Phone: 202 720-6909, Fax: 202 720-0285, E-mail: whitney.rick@usda.gov.

RIN: 0581-AC87

5. National Organic Program: Amendments to the National List (Crops, Livestock, and Processing) TM-09-0003

Legal Authority: 7 U.S.C. 6517 and 6518

Abstract: The Agricultural Marketing Service is amending the National List of Allowed and Prohibited Substances contained in the National Organic Program regulations. This rule would add six new substances and remove one from the list.

Completed:

Reason | Date | FR Cite
Final Action | 12/13/10 | 75 FR 77521
Final Action Effective | 12/14/10 |

Regulatory Flexibility Analysis Required: Yes.

Agency Contact: Melissa R. Bailey, Phone: 202 720-3252, Fax: 202 205-7808, E-mail: melissa.bailey@usda.gov.

RIN: 0581-AC91

BILLING CODE 3410-02-P

DEPARTMENT OF AGRICULTURE (USDA)

Farm Service Agency (FSA)

Final Rule Stage

6. Farm Loan Programs Loan Making Activities

Legal Authority: Pub. L. 110-246

Abstract: The rule will implement the provisions of the 2008 Farm Bill that affect Farm Loan Programs (FLP) Loan Making Division (LMD); there is discretion involved in the implementation. The sections of the 2008 Farm Bill that the 9/23/2010 proposed rule would implement are: 5001, Direct Loans; 5005, Beginning Farmer or Rancher and Socially Disadvantaged Farmer or Rancher Contract Land Sales Program Down Payment Loan Program; 5101, Farming Experience as an Eligibility Requirement; and 5201, Eligibility of Equine Farmers and Ranchers for Emergency Loans.

For the development of the rulemaking that would implement section 5501, Loans to Purchase Highly Fractionated Land, FSA conducted Tribal consultation. The rule would allow individual tribal members to qualify for Indian Land Acquisition loans. This will be published as a separate proposed rule.

Timetable:

Action | Date | FR Cite
NPRM | 09/23/10 | 75 FR 57866
NPRM Comment Period End | 11/22/10 |
Final Rule | 08/00/11 |

Regulatory Flexibility Analysis Required: Yes.

Agency Contact: Deirdre Holder, Director, Regulatory Review Group, Department of Agriculture, Farm Service Agency, 1400 Independence Avenue SW, Washington, DC 20250-0572, Phone: 202 205-5851, Fax: 202 720-5233, E-mail: deirdre.holder@wdc.usda.gov.

RIN: 0560-AI03

7. Conservation Loan Guarantee Program

Legal Authority: Pub. L. 110-246

Abstract: The rule will implement the provisions of the 2008 Farm Bill that affect Farm Loan Programs (FLP) Loan Making Division (LMD); there is discretion in how several of the provisions are implemented. The section being implemented is 5002, Conservation Loan and Loan Guarantee. Implementation of this provision will create a new direct and guaranteed loan program directed at assisting farmers in implementing conservation practices.

The rule establishes a new loan and loan guarantee program to finance qualifying conservation projects. All guarantees will be at 75 percent of the loan amount. The applicant must have an acceptable conservation plan that includes the project(s) to be financed. Preference is given to beginning farmer and socially disadvantaged applicants, conversion to sustainable or organic production practices, and compliance with highly erodible land conservation requirements. Eligibility for the program is not restricted to those who cannot get credit elsewhere. The program is not mandatory.

Timetable:

Action | Date | FR Cite
Interim Rule | 09/03/10 | 75 FR 54005
Interim Rule Comment Period End | 11/02/10 |
Final Rule | 08/00/11 |

Regulatory Flexibility Analysis Required: Yes.

Agency Contact: Deirdre Holder, Director, Regulatory Review Group, Department of Agriculture, Farm Service Agency, 1400 Independence Avenue SW, Washington, DC 20250-0572, Phone: 202 205-5851, Fax: 202 720-5233, E-mail: deirdre.holder@wdc.usda.gov.

RIN: 0560-AI04

DEPARTMENT OF AGRICULTURE (USDA)

Farm Service Agency (FSA)

Long-Term Actions

8. Emergency Forest Restoration Program

Legal Authority: Pub. L. 110-246

Abstract: A new subpart was added to the regulations in 7 CFR part 701 to implement the Emergency Forest Restoration Program (EFRP), which was authorized by the 2008 Farm Bill. EFRP provides cost-share funding to owners of nonindustrial private forest land to restore the land after the land is damaged by a natural disaster. The damaged land must have had a tree cover immediately before the natural disaster.

Timetable:

Action | Date | FR Cite
Interim Rule | 11/17/10 | 75 FR 70083
Interim Final Rule Effective | 11/17/10 |
Interim Final Rule Comment Period End | 01/18/11 |
Final Action | To Be Determined

Regulatory Flexibility Analysis Required: Yes.

Agency Contact: Deirdre Holder, Phone: 202 205-5851, Fax: 202 720-5233, E-mail: deirdre.holder@wdc.usda.gov.

RIN: 0560-AH89

DEPARTMENT OF AGRICULTURE (USDA)

Farm Service Agency (FSA)

Completed Actions

9. Loan Servicing; Farm Loan Programs

Legal Authority: Pub. L. 110-246

Abstract: The 2008 Farm Bill requires several changes to the Farm Service Agency (FSA) Farm Loan Programs (FLP) loan servicing regulations. An overall plan will be established to insure that borrowers can be transitioned to private credit in the shortest timeframe practicable. FSA monitors the status of all borrowers to determine if graduation is possible. The 2008 Farm Bill emphasizes this responsibility and insures that FSA uses all the tools available to graduate borrowers to commercial credit as soon as they can financially do so. In 2007, over 2,500 direct borrowers (about 3.7 percent of the portfolio) graduated to commercial credit. FSA believes graduation will continue in the 3 to 5 percent range and is dependent on the overall farm economy.

The right of an FSA borrower-owner to purchase leased property under Homestead Protection will be extended beyond the borrower-owner to the immediate family. Currently, FSA only has 38 properties in Homestead Protection.

Acceleration and foreclosure will be suspended on borrowers who file a claim of program discrimination against the Department or have a claim pending. Interest accrual and offset will also be suspended during the time of the moratorium. If the borrower does not prevail in the claim, the interest, which would have accrued during the moratorium, will be due and offset on the account will be reestablished.

Completed:

Reason | Date | FR Cite
Final Rule | 01/28/11 | 76 FR 5055
Final Rule Effective | 02/28/11 |

Regulatory Flexibility Analysis Required: Yes.

Agency Contact: Deirdre Holder, Phone: 202 205-5851, Fax: 202 720-5233, E-mail: deirdre.holder@wdc.usda.gov.

RIN: 0560-AI05

BILLING CODE 3410-05-P

DEPARTMENT OF AGRICULTURE (USDA)

Animal and Plant Health Inspection Service (APHIS)

Proposed Rule Stage

10. Animal Welfare: Marine Mammals; Nonconsensus Language, and Interactive Programs (Rulemaking Resulting From a Section 610 Review)

Legal Authority: 7 U.S.C. 2131 to 2159

Abstract: The U.S. Department of Agriculture regulates the humane handling, care, treatment, and transportation of certain marine mammals under the Animal Welfare Act. The present standards for these animals have been in effect since 1979 and amended in 1984. During this time, advances have been made and new information has been developed with regard to the housing and care of marine mammals. This rulemaking addresses marine mammal standards on which consensus was not reached during negotiated rulemaking conducted between September 1995 and July 1996. These include standards affecting variances, indoor facilities, outdoor facilities, space requirements, and water quality, as well as swim-with-the-dolphin programs. These actions appear necessary to ensure that the minimum standards for the humane handling, care, treatment, and transportation of marine mammals in captivity are based on current general, industry, and scientific knowledge and experience.

Timetable:

Action | Date | FR Cite
ANPRM | 05/30/02 | 67 FR 37731
ANPRM Comment Period End | 07/29/02 |
NPRM | 06/00/11 |
NPRM Comment Period End | 08/00/11 |

Regulatory Flexibility Analysis Required: Yes.

Agency Contact: Barbara Kohn, Senior Staff Veterinarian, Animal Care, Department of Agriculture, Animal and Plant Health Inspection Service, 4700 River Road, Unit 84, Riverdale, MD 20737-1234, Phone: 301 734-7833.

RIN: 0579-AB24

11. Animal Welfare; Regulations and Standards for Birds

Legal Authority: 7 U.S.C. 2131 to 2159

Abstract: APHIS intends to establish standards for the humane handling, care, treatment, and transportation of birds other than birds bred for use in research.

Timetable:

Action | Date | FR Cite
NPRM | 08/00/11 |
NPRM Comment Period End | 11/00/11 |

Regulatory Flexibility Analysis Required: Yes.

Agency Contact: Johanna Briscoe, Veterinary Medical Officer and Avian Specialist, Animal Care, Department of Agriculture, Animal and Plant Health Inspection Service, 4700 River Road, Unit 84, Riverdale, MD 20737-1234, Phone: 301 734-0658.

RIN: 0579-AC02

12. Bovine Spongiform Encephalopathy; Importation of Bovines and Bovine Products

Legal Authority: 7 U.S.C. 450; 7 U.S.C. 1622; 7 U.S.C. 7701 to 7772; 7 U.S.C. 8301 to 8317; 21 U.S.C. 136 and 136a; 31 U.S.C. 9701

Abstract: This rulemaking would amend the regulations regarding the importation of bovines and bovine products. Under this rulemaking, countries would be classified as either negligible risk, controlled risk, or undetermined risk for bovine spongiform encephalopathy (BSE). Some commodities would be allowed importation into the United States regardless of the BSE classification of the country of export. Other commodities would be subject to importation restrictions or prohibitions based on the type of commodity and the BSE classification of the country. The criteria for country classification and commodity import would be closely aligned with those of the World Organization for Animal Health. This rulemaking would also address public comments received in response to a September 2008 request for comments regarding certain provisions of an APHIS January 2005 final rule.

Timetable:

Action | Date | FR Cite
NPRM | 08/00/11
NPRM Comment Period End | 10/00/11

Regulatory Flexibility Analysis Required: Yes.

Agency Contact: Christopher Robinson, Senior Staff Veterinarian, Technical Trade Services, National Center for Import and Export, VS, Department of Agriculture, Animal and Plant Health Inspection Service, 4700 River Road, Unit 40, Riverdale, MD 20737-1231, Phone: 301 734-7837.

RIN: 0579-AC68

13. Viral Hemorrhagic Septicemia; Interstate Movement and Import Restrictions on Certain Live Fish

Legal Authority: 7 U.S.C. 1622; 7 U.S.C. 8301 to 8317; 21 U.S.C. 136 and 136a; 31 U.S.C. 9701

Abstract: We are establishing regulations to restrict the interstate movement and importation into the United States of live fish that are susceptible to viral hemorrhagic septicemia, a highly contagious disease of certain fresh and saltwater fish. Viral hemorrhagic septicemia has been detected in freshwater fish in several of the Great Lakes and related tributaries. The disease has been responsible for several large-scale die-offs of wild fish in the Great Lakes region. This action is necessary to prevent further introductions into, and dissemination within, the United States of viral hemorrhagic septicemia. This proposed rule replaces a previously published but not effective interim rule that contained substantially different restrictions on the interstate movement and importation of VHS-susceptible live fish.

Timetable:

Action | Date | FR Cite
Interim Final Rule | 09/09/08 | 73 FR 52173
Interim Final Rule Comment Period End | 11/10/08
Interim Final Rule: Delay of Effective Date | 10/28/08 | 73 FR 63867
Interim Final Rule Effective | 01/09/09
Interim Final Rule: Delay of Effective Date | 01/02/09 | 74 FR 1
NPRM | 07/00/11
NPRM Comment Period End | 10/00/11

Regulatory Flexibility Analysis Required: Yes.

Agency Contact: Christa Speekmann, Import/Export Specialist, Aquaculture, National Center for Import and Export, VS, Department of Agriculture, Animal and Plant Health Inspection Service, 4700 River Road, Unit 39, Riverdale, MD 20737-1236, Phone: 301 734-8695.

RIN: 0579-AC74

14. Scrapie in Sheep and Goats

Legal Authority: 7 U.S.C. 8301 to 8317

Abstract: This rulemaking would amend the scrapie regulations by changing the risk groups and categories established for individual animals and for flocks, increasing the use of genetic testing as a means of assigning risk levels to animals, reducing movement restrictions for animals found to be genetically less susceptible or resistant to scrapie, and simplifying, reducing, or removing certain recordkeeping requirements. This action would provide designated scrapie epidemiologists with more alternatives and flexibility when testing animals in order to determine flock designations under the regulations. It would change the definition of high-risk animal, which will change the types of animals eligible for indemnity, and to pay higher indemnity for certain pregnant ewes and early maturing ewes. It would also make the identification and recordkeeping requirements for goat owners consistent with those for sheep owners. These changes would affect sheep and goat producers and State governments.

Timetable:

Action | Date | FR Cite
NPRM | 07/00/11
NPRM Comment Period End | 09/00/11

Regulatory Flexibility Analysis Required: Yes.

Agency Contact: Diane Sutton, National Scrapie Program Coordinator, Ruminant Health Programs, NCAHP, VS, Department of Agriculture, Animal and Plant Health Inspection Service, 4700 River Road, Unit 43, Riverdale, MD 20737-1235, Phone: 301 734-6954.

RIN: 0579-AC92

15. Plant Pest Regulations; Update of General Provisions

Legal Authority: 7 U.S.C. 450; 7 U.S.C. 2260; 7 U.S.C. 7701 to 7772; 7 U.S.C. 7781 to 7786; 7 U.S.C. 8301 to 8817; 19 U.S.C. 136; 21 U.S.C. 111; 21 U.S.C. 114a; 21 U.S.C. 136 and 136a; 31 U.S.C. 9701; 42 U.S.C. 4331 to 4332

Abstract: We are proposing to revise our regulations regarding the movement of plant pests. We are proposing to regulate the movement of not only plant pests, but also biological control organisms and associated articles. We are proposing risk-based criteria regarding the movement of biological control organisms, and are proposing to exempt certain types of plant pests from permitting requirements for their interstate movement and movement for environmental release. We are also proposing to revise our regulations regarding the movement of soil, and to establish regulations governing the biocontainment facilities in which plant pests, biological control organisms, and associated articles are held. This proposed rule replaces a previously published proposed rule, which we are withdrawing as part of this document. This proposal would clarify the factors that would be considered when assessing the risks associated with the movement of certain organisms, facilitate the movement of regulated organisms and articles in a manner that also protects U.S. agriculture, and address gaps in the current regulations.

Timetable:

Action | Date | FR Cite
Notice of Intent to Prepare an Environmental Impact Statement | 10/20/09 | 74 FR 53673
Notice Comment Period End | 11/19/09
NPRM | 06/00/11
NPRM Comment Period End | 08/00/11

Regulatory Flexibility Analysis Required: Yes.

Agency Contact: Shirley Wager-Page, Chief, Pest Permitting Branch, Plant Health Programs, PPQ, Department of Agriculture, Animal and Plant Health Inspection Service, 4700 River Road, Unit 131, Riverdale, MD 20737-1236, Phone: 301 734-8453.

RIN: 0579-AC98

16. Bovine Spongiform Encephalopathy and Scrapie; Importation of Small Ruminants and Their Germplasm, Products, and Byproducts

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: This rulemaking would amend the bovine spongiform encephalopathy (BSE) and scrapie regulations regarding the importation of live sheep, goats, and wild ruminants and their embryos, semen, products, and byproducts. Some countries from which such imports would be allowed under this rule are currently those from which the importation of live sheep, goats, wild ruminants, their embryos, and ruminant products and byproducts are prohibited under existing BSE regulations. Some products would be allowed importation without restriction due to the inherent lack of BSE risk regarding the product. Certain other products and live animals would be allowed importation if it can be certified that the live animals or the animals from which the products were derived were born after implementation of an effective feed ban. The proposed scrapie revisions regarding the importation of sheep, goats, and susceptible wild ruminants for other than immediate slaughter are similar to those recommended by the World Organization for Animal Health in restricting the importation of such animals to those from scrapie-free regions or certified scrapie-free flocks.

Timetable:

Action | Date | FR Cite
NPRM | 07/00/11
NPRM Comment Period End | 09/00/11

Regulatory Flexibility Analysis Required: Yes.

Agency Contact: Betzaida Lopez, Staff Veterinarian, Technical Trade Services, National Center for Import and Export, VS, Department of Agriculture, Animal and Plant Health Inspection Service, 4700 River Road, Unit 39, Riverdale, MD 20737-1231, Phone: 301 734-5677.

RIN: 0579-AD10

DEPARTMENT OF AGRICULTURE (USDA)

Animal and Plant Health Inspection Service (APHIS)

Final Rule Stage

17. Importation of Plants for Planting; Establishing a New Category of Plants for [lanting not Authorized for Importation Pending Pest Risk Analysis (Rulemaking Resulting From a Section 610 Review)

Legal Authority: 7 U.S.C. 450; 7 U.S.C. 7701 to 7772; 7 U.S.C. 7781 to 7786; 21 U.S.C. 136 and 136a

Abstract: This rulemaking will amend the regulations to establish a new category of regulated articles in the regulations governing the importation of nursery stock, also known as plants for planting. This category will list taxa of plants for planting whose importation is not authorized pending pest risk analysis. If scientific evidence indicates that a taxon of plants for planting is a quarantine pest or a host of a quarantine pest, we will publish a notice that will announce our determination that the taxon is a quarantine pest or a host of a quarantine pest, cite the scientific evidence we considered in making this determination, and give the public an opportunity to comment on our determination. If we receive no comments that change our determination, the taxon will subsequently be added to the new category. We will allow any person to petition for a pest risk analysis to be conducted for a taxon that has been added to the new category. After the pest risk analysis is completed, we will remove the taxon from the category and allow its importation subject to general requirements, allow its importation subject to specific restrictions, or prohibit its importation. We will consider applications for permits to import small quantities of germplasm from taxa whose importation is not authorized pending pest risk analysis, for experimental or scientific purposes under controlled conditions. This new category will allow us to take prompt action on evidence that the importation of a taxon of plants for planting poses a risk while continuing to allow for public participation in the process.

Timetable:

Action | Date | FR Cite
NPRM | 07/23/09 | 74 FR 36403
NPRM Comment Period End | 10/21/09
Final Rule | 06/00/11

Regulatory Flexibility Analysis Required: No.

Agency Contact: Arnold T. Tschanz, Senior Plant Pathologist, Risk Management and Plants for Planting Policy, RPM, PPQ, Department of Agriculture, Animal and Plant Health Inspection Service, 4700 River Road, Unit 133, Riverdale, MD 20737-1231, Phone: 301 734-0627.

RIN: 0579-AC03

18. Citrus Canker; Compensation for Certified Citrus Nursery Stock

Legal Authority: 7 U.S.C. 7701 to 7772; 7 U.S.C. 7781 to 7786

Abstract: This action follows a rulemaking that established provisions under which eligible commercial citrus nurseries may, subject to the availability of appropriated funds, receive payments for certified citrus nursery stock destroyed to eradicate or control citrus canker. The payment of these funds is necessary in order to reduce the economic effects on affected commercial citrus nurseries that have had certified citrus nursery stock destroyed to control citrus canker.

Timetable:

Action | Date | FR Cite
Interim Final Rule | 06/08/06 | 71 FR 33168
Interim Final Rule Effective | 06/08/06
Interim Final Rule Comment Period End | 08/07/06
Final Action | 06/00/11

Regulatory Flexibility Analysis Required: Yes.

Agency Contact: Lynn E. Goldner, National Program Manager, Emergency and Domestic Programs, PPQ, Department of Agriculture, Animal and Plant Health Inspection Service, 4700 River Road, Unit 137, Riverdale, MD 20737-1231, Phone: 301 734-7228.

RIN: 0579-AC05

19. Handling of Animals; Contingency Plans

Legal Authority: 7 U.S.C. 2131 to 2159

Abstract: This rulemaking will amend the Animal Welfare Act regulations to add requirements for contingency planning and training of personnel by research facilities and by dealers, exhibitors, intermediate handlers, and carriers. These requirements are necessary because we believe all licensees and registrants should develop a contingency plan for all animals regulated under the Animal Welfare Act in an effort to better prepare for potential disasters. This action will heighten the awareness of licensees and registrants regarding their responsibilities and help ensure a timely and appropriate response should an emergency or disaster occur.

Timetable:

Action | Date | FR Cite
NPRM | 10/23/08 | 73 FR 63085
NPRM Comment Period End | 12/22/08
NPRM Comment Period Extended | 12/19/08 | 73 FR 77554
NPRM Comment Period Extended End | 02/20/09
Final Action | 07/00/11

Regulatory Flexibility Analysis Required: Yes.

Agency Contact: Jeanie Lin, National Emergency Programs Manager, Animal Care, Department of Agriculture, Animal and Plant Health Inspection Service, 4700 River Road, Unit 84, Riverdale, MD 20737, Phone: 301 734-7833.

RIN: 0579-AC69

20. • Citrus Canker, Citrus Greening, and Asian Citrus Psyllid; Interstate Movement of Regulated Nursery Stock

Legal Authority: 7 U.S.C. 7701 to 7772; 7 U.S.C. 7781 to 7786

Abstract: This rulemaking will amend the regulations governing the interstate movement of regulated articles from areas quarantined for citrus canker, citrus greening, and/or Asian citrus psyllid (ACP) to allow the movement of regulated nursery stock under a certificate to any area within the United States. In order to be eligible to move regulated nursery stock, a nursery must enter into a compliance agreement with APHIS that specifies the conditions under which the nursery stock must be grown, maintained, and shipped. It will also amend the regulations that allow the movement of regulated nursery stock from an area quarantined for ACP, but not for citrus greening, to amend the existing regulatory requirements for the issuance of limited permits for the interstate movement of the nursery stock. We are making these changes on an immediate basis in order to provide nursery stock producers in areas quarantined for citrus canker, citrus greening, or ACP with the ability to ship regulated nursery stock to markets within the United States that would otherwise be unavailable to them due to the prohibitions and restrictions contained in the regulations while continuing to provide adequate safeguards to prevent the spread of the three pests into currently unaffected areas of the United States.

Timetable:

Action | Date | FR Cite
Interim Final Rule | 06/00/11
Interim Final Rule Comment Period End | 08/00/11

Regulatory Flexibility Analysis Required: Yes.

Agency Contact: Osama El-Lissy, Director, Emergency and Domestic Programs, PPQ, Department of Agriculture, Animal and Plant Health Inspection Service, 4700 River Road, Unit 160, Riverdale, MD 20737-1238, Phone: 301 734-5459.

Deborah McPartlan, Emergency and Domestic Programs, PPQ, Department of Agriculture, Animal and Plant Health Inspection Service, 4700 River Road, Unit 160, Riverdale, MD 20737-1238, Phone: 301 734-5356.

RIN: 0579-AD29

DEPARTMENT OF AGRICULTURE (USDA)

Animal and Plant Health Inspection Service (APHIS)

Long-Term Actions

21. Phytophthora ramorum; quarantine and regulations

Legal Authority: 7 U.S.C. 7701 to 7772; 7 U.S.C. 7781 to 7786

Abstract: The interim rule amended the Phytophthora ramorum regulations to make the regulations consistent with a Federal Order issued by APHIS in December 2004 that established restrictions on the interstate movement of nursery stock from nurseries in nonquarantined counties in California, Oregon, and Washington. This action also updated conditions for the movement of regulated articles of nursery stock from quarantined areas, as well as restricted the interstate movement of all other nursery stock from nurseries in quarantined areas. We also updated the list of plants regulated because of P. ramorum and the list of areas that are quarantined for P. ramorum and made other miscellaneous revisions to the regulations. These actions are necessary to prevent the spread of P. ramorum to noninfested areas of the United States. We will continue to update the regulations through additional rulemakings as new scientific information on this pathogen becomes available.

Timetable:

Action | Date | FR Cite
Interim Final Rule | 02/27/07 | 72 FR 8585
Interim Final Rule Effective | 02/27/07
Interim Final Rule Comment Period End | 04/30/07
Final Action | To Be Determined

Regulatory Flexibility Analysis Required: Yes.

Agency Contact: Prakash Hebbar, Phone: 301 734-5717.

RIN: 0579-AB82

22. Introduction of Organisms and Products Altered or Produced Through Genetic Engineering

Legal Authority: 7 U.S.C. 7701 to 7772; 7 U.S.C. 7781 to 7786; 31 U.S.C. 9701

Abstract: This rulemaking would revise the regulations regarding the importation, interstate movement, and environmental release of certain genetically engineered organisms in order to bring the regulations into alignment with provisions of the Plant Protection Act. The revisions would also update the regulations in response to advances in genetic science and technology and our accumulated experience in implementing the current regulations. This is the first comprehensive review and revision of the regulations since they were established in 1987. This rule would affect persons involved in the importation, interstate movement, or release into the environment of genetically engineered plants and certain other genetically engineered organisms.

Timetable:

Action | Date | FR Cite
Notice of Intent to Prepare an Environmental Impact Statement | 01/23/04 | 69 FR 3271
Comment Period End | 03/23/04
Notice of Availability of Draft Environmental Impact Statement | 07/17/07 | 72 FR 39021
Comment Period End | 09/11/07
NPRM | 10/09/08 | 73 FR 60007
NPRM Comment Period End | 11/24/08
Correction | 11/10/08 | 73 FR 66563
NPRM Comment Period Reopened | 01/16/09 | 74 FR 2907
NPRM Comment Period End | 03/17/09
NPRM; Notice of Public Scoping Session | 03/11/09 | 74 FR 10517
NPRM Comment Period Reopened | 04/13/09 | 74 FR 16797
NPRM Comment Period End | 06/29/09
Next Action Undetermined

Regulatory Flexibility Analysis Required: Yes.

Agency Contact: John Turner, Phone: 301 734-5720.

RIN: 0579-AC31

23. Importation of Poultry and Poultry Products From Regions Affected With Highly Pathogenic Avian Influenza

Legal Authority: 7 U.S.C. 1622; 7 U.S.C. 8301 to 8317; 21 U.S.C. 136 and 136a

Abstract: This rulemaking will amend the regulations concerning the importation of animals and animal products to prohibit or restrict the importation of birds, poultry, and bird and poultry products from regions that have reported the presence in commercial birds or poultry of highly pathogenic avian influenza other than subtype H5N1. This action will supplement existing prohibitions and restrictions on articles from regions that have reported the presence of exotic Newcastle disease or highly pathogenic avian influenza subtype H5N1. The new restrictions will be almost identical to those imposed on articles from regions with exotic Newcastle disease.

Timetable:

Action | Date | FR Cite
Interim Final Rule | 01/24/11 | 76 FR 4046
Interim Final Rule Comment Period End | 03/25/11 |
Next Action Undetermined

Regulatory Flexibility Analysis Required: Yes.

Agency Contact: Julia Punderson, Phone: 301 734-4356.

RIN: 0579-AC36

24. Light Brown Apple Moth Quarantine

Legal Authority: 7 U.S.C. 7701 to 7772; 7 U.S.C. 7781 to 7786

Abstract: We are quarantining 16 counties in California and the entire State of Hawaii because of the light brown apple moth and restricting the interstate movement of regulated articles from the quarantined areas. This action is necessary on an emergency basis to prevent the spread of the light brown apple moth into noninfested areas of the United States.

Timetable:

Action | Date | FR Cite
Interim Final Rule | To Be Determined

Regulatory Flexibility Analysis Required: Yes.

Agency Contact: Andrea Simao, Phone: 301 734-0930.

RIN: 0579-AC71

25. Citrus Greening and Asian Citrus Psyllid; Quarantine and Interstate Movement Regulations

Legal Authority: 7 U.S.C. 7701 to 7772; 7 U.S.C. 7781 to 7786; 21 U.S.C. 136 and 136a

Abstract: This rulemaking establishes regulations that designate the States of Florida and Georgia, Puerto Rico, two parishes in Louisiana, and two counties in South Carolina as quarantined areas for citrus greening and Alabama, Florida, Guam, Hawaii, Puerto Rico, Louisiana, Mississippi, Texas, three counties in South Carolina, portions of one county in Arizona, and all of three and portions of an additional three counties in California as quarantined areas for Asian citrus psyllid, a vector of a bacterium that causes citrus greening. It also establishes restrictions on the interstate movement of regulated articles from the quarantined areas, as well as treatments under which Asian Citrus psyllid host material may be moved interstate from a quarantined area. These actions follow the discovery of citrus greening and/or Asian citrus psyllid in the quarantined areas, and are necessary in order to prevent the spread of the disease and its vector to noninfested areas of the United States.

Timetable:

Action | Date | FR Cite
Availability of an Environmental Assessment | 09/09/09 | 74 FR 46409
Environmental Assessment Comment Period End | 11/09/09 |
Interim Final Rule | 06/17/10 | 75 FR 34322
Interim Final Rule Comment Period End | 08/16/10 |
Next Action Undetermined |  |

Regulatory Flexibility Analysis Required: Yes.

Agency Contact: Patrick J. Gomes, Phone: 919 855-7313.

RIN: 0579-AC85

DEPARTMENT OF AGRICULTURE (USDA)

Animal and Plant Health Inspection Service (APHIS)

Completed Actions

26. Boll Weevil: Quarantine and Regulations

Legal Authority: 7 U.S.C. 7701 to 7772; 7 U.S.C. 7781 to 7786

Abstract: This action would establish domestic boll weevil regulations that would restrict the interstate movement of regulated articles within regulated areas and from regulated areas into or through nonregulated areas in commercial cotton-producing States. The regulations would help prevent the artificial spread of boll weevil into noninfested areas of the United States and the reinfestation of areas from which the boll weevil has been eradicated.

Completed:

Reason | Date | FR Cite
Withdrawn: No Action Anticipated Within the Next 12 Months | 03/02/11 |

Regulatory Flexibility Analysis Required: Yes.

Agency Contact: William Grefenstette, Phone: 301 734-8676.

RIN: 0579-AB91

27. Animal Welfare; Climatic and Environmental Conditions for Tranportation of Warm-Blooded Animals Other than Marine Mammals

Legal Authority: 7 U.S.C. 2131 to 2159

Abstract: This rulemaking would amend the Animal Welfare Act regulations regarding transportation of live animals other than marine mammals by removing the current ambient temperature requirements for various stages in the transportation of those animals. The action would replace those requirements with a single performance standard under which the animals would be transported under climatic and environmental conditions that are appropriate for their welfare. The regulations currently require that ambient temperatures be maintained within certain ranges during transportation, but animals may be transported at ambient temperatures below the minimum temperatures if their consignor provides a certificate signed by a veterinarian certifying that the animals are acclimated to temperatures lower than the minimum temperature. This proposal would make acclimation certificates for live animals other than marine mammals unnecessary. This rulemaking does not address marine mammals due to their unique requirements for care and handling. We believe that establishing a single performance standard would ensure that warm-blooded animals other than marine mammals are transported in climatic and environmental conditions that are not detrimental to their welfare while allowing for variations in climatic and environmental conditions that are suitable for individual animals.

Completed:

Reason | Date | FR Cite
Withdrawn: No Action Anticipated Within the Next 12 Months | 03/02/11 |

Regulatory Flexibility Analysis Required: Yes.

Agency Contact: Gerald Rushin, Phone: 301 734-0954.

RIN: 0579-AC41

28. • Importation of Mexican Hass Avocados; Additional Shipping Options

Legal Authority: 7 U.S.C. 450; 7 U.S.C. 7701 to 7772; 7 U.S.C. 7781 to 7786; 21 U.S.C. 136 and 136a

Abstract: This rulemaking amends the regulations for the importation of Hass avocados originating in Michoacán, Mexico, into the United States by adding the option to ship avocados to the United States in bulk shipping bins when safeguarding is maintained from the packinghouse to the port of first arrival in the United States and by making it clear that the avocados may be shipped by land, sea, or air. It also amends the regulations to allow avocados from multiple packinghouses that participate in the avocado export program to be combined into one consignment. We are taking these actions in response to requests from the Government of Mexico and inquiries from a U.S. maritime port. These actions allow additional options for shipping Hass avocados from Mexico to the United States and allow Mexican exporters to ship full container or truck loads from multiple packinghouses while continuing to provide an appropriate level of protection against the introduction of plant pests.

Timetable:

Action | Date | FR Cite
NPRM | 05/27/10 | 75 FR 29680
NPRM Comment Period End | 07/26/10 |
Final Rule | 10/29/10 | 75 FR 66643
Final Rule Effective | 11/29/10 |

Regulatory Flexibility Analysis Required: Yes.

Agency Contact: David B. Lamb, Import Specialist, Regulatory Coordination and Compliance, PPQ, Department of Agriculture, Animal and Plant Health Inspection Service, 4700 River Road, Unit 133, Riverdale, MD 20737-1231, Phone: 301 734-0627.

RIN: 0579-AD15

BILLING CODE 3410-34-P

DEPARTMENT OF AGRICULTURE (USDA)

Rural Housing Service (RHS)

Final Rule Stage

29. Guaranteed Single-Family Housing

Legal Authority: 5 U.S.C. 301; 7 U.S.C. 1989; 42 U.S.C. 1480

Abstract: The Guaranteed Single-Family Housing program will provide better clarity and consistency within the program. The action is taken to update the regulations to current mortgage industry standards and provide more guidance on program oversight and monitoring.

Timetable:

Action | Date | FR Cite
NPRM | 12/15/99 | 64 FR 70124
NPRM Comment Period End | 02/14/00 |
Final Action | 09/00/11 |
Final Action Effective | 10/00/11 |

Regulatory Flexibility Analysis Required: Yes.

Agency Contact: Joaquin Tremols, Acting Director, Single-Family Housing Guaranteed Loan Division, Department of Agriculture, Rural Housing Service, 1400 Independence Avenue SW, STOP 0784, Washington, DC 20250, Phone: 202 720-1465, Fax: 202 205-2476, E-mail: joaquin.tremols@wdc.usda.gov.

RIN: 0575-AC18

BILLING CODE 3410-XV-P

DEPARTMENT OF AGRICULTURE (USDA)

Food Safety and Inspection Service (FSIS)

Proposed Rule Stage

30. Mandatory Inspection of Catfish and Catfish Products

Legal Authority: 21 U.S.C. 601 et seq.; Pub. L. 110-249, sec 11016

Abstract: The Food, Conservation, and Energy Act of 2008 (Pub. L. 110-246, sec. 11016), known as the 2008 Farm Bill, amended the Federal Meat Inspection Act (FMIA) to make catfish an amenable species under the FMIA. Amenable species must be inspected, so this rule will define inspection requirements for catfish. The regulations will define “catfish” and the scope of coverage of the regulations to apply to establishments that process farm-raised species of catfish and to catfish and catfish products. The regulations will take into account the conditions under which the catfish are raised and transported to a processing establishment.

Timetable:

Action | Date | FR Cite
NPRM | 02/24/11 | 76 FR 10433
NPRM Comment Period End | 06/24/11 |

Regulatory Flexibility Analysis Required: Yes.

Agency Contact: Dr. Daniel L. Engeljohn, Assistant Administrator, Office of Policy and Program Development, Department of Agriculture, Food Safety and Inspection Service, 1400 Independence Avenue SW, Washington, DC 20250, Phone: 202 205-0495, Fax: 202 401-1760,. E-mail: daniel.engeljohn@fsis.usda.gov.

RIN: 0583-AD36

DEPARTMENT OF AGRICULTURE (USDA)

Food Safety and Inspection Service (FSIS)

Final Rule Stage

31. Performance Standards for the Production of Processed Meat and Poultry Products; Control of Listeria Monocytogenes in Ready-to-Eat Meat and Poultry Products

Legal Authority: 21 U.S.C. 451 et seq.; 21 U.S.C. 601 et seq.

Abstract: FSIS has proposed to establish pathogen reduction performance standards for all ready-to-eat (RTE) and partially heat-treated meat and poultry products, and measures, including testing, to control Listeria monocytogenes in RTE products. The performance standards spell out the objective level of pathogen reduction that establishments must meet during their operations in order to produce safe products, but allow the use of customized, plant-specific processing procedures other than those prescribed in the earlier regulations. With HACCP, food safety performance standards give establishments the incentive and flexibility to adopt innovative, science-based food safety processing procedures and controls, while providing objective, measurable standards that can be verified by Agency inspectional oversight. This set of performance standards will include and be consistent with standards already in place for certain ready-to-eat meat and poultry products.

Timetable:

Action | Date | FR Cite
NPRM | 02/27/01 | 66 FR 12590
NPRM Comment Period End | 05/29/01 |
NPRM Comment Period Extended | 07/03/01 | 66 FR 35112
NPRM Comment Period Extended End | 09/10/01 |
Interim Final Rule | 06/06/03 | 68 FR 34208
Interim Final Rule Effective | 10/06/03 |
Interim Final Rule Comment Period End | 01/31/05 |
NPRM Comment Period Reopened | 03/24/05 | 70 FR 15017
NPRM Comment Period Reopened End | 05/09/05 |
Affirmation of Interim Final Rule | 01/00/12 |
Final Action | 03/00/12

Regulatory Flexibility Analysis Required: Yes.

Agency Contact: Dr. Daniel L. Engeljohn, Assistant Administrator, Office of Policy and Program Development, Department of Agriculture, Food Safety and Inspection Service, 1400 Independence Avenue SW, Washington, DC 20250, Phone: 202 205-0495, Fax: 202 401-1760, E-mail: daniel.engeljohn@fsis.usda.gov.

RIN: 0583-AC46

DEPARTMENT OF AGRICULTURE (USDA)

Food Safety and Inspection Service (FSIS)

Completed Actions

32. New Formulas for Calculating the Basetime, Overtime, Holiday, and Laboratory Services Rates; Rate Changes Based on the Formulas; and Increased Fees for the Accredited Laboratory Program

Legal Authority: 7 U.S.C. 1621 et seq.; 21 U.S.C. 601 et seq.; 21 U.S.C. 451 et seq.; 21 U.S.C. 1031 et seq.

Abstract: FSIS is amending its regulations to establish formulas for calculating the rates that it charges meat and poultry establishments, egg products plants, and importers and exporters for providing voluntary, overtime, and holiday inspection, and identification, certification, and laboratory services. FSIS will publish the rates annually in Federal Register notices prior to the start of each calendar year and will apply them on the first FSIS pay period at the beginning of the calendar year. The Agency is also increasing the codified flat annual fee for its Accredited Laboratory Program for FY 2012 and FY 2013.

Completed:

Reason | Date | FR Cite
Final Action | 04/12/11 | 76 FR 20220

Regulatory Flexibility Analysis Required: Yes.

Agency Contact: Rachel Edelstein, Phone: 202 720-0399, Fax: 202 690-0486, E-mail: rachel.edelstein@fsis.usda.gov

RIN: 0583-AD40

BILLING CODE 3140-DM-P

DEPARTMENT OF AGRICULTURE (USDA)

Forest Service (FS)

Proposed Rule Stage

33. Special Areas; State-Specific Inventoried Roadless Area Management: Colorado

Legal Authority: Not Yet Determined

Abstract: On April 11, 2007, Governor of Colorado Ritter submitted a petition under the provisions of the Administrative Procedure Act (5 U.S.C. 553(e)) and Agriculture Department regulation (7 CFR 1.28) to promulgate regulations, in cooperation with the State, for the management of inventoried roadless areas within the State of Colorado. After review and recommendation by the Roadless Area Conservation National Advisory Committee, the Secretary accepted the Governor's petition and initiated a proposed rulemaking for inventoried roadless areas in Colorado. The proposed rulemaking would manage Colorado's inventoried roadless areas by prohibiting road building and tree cutting, with some exceptions, on 4.1 million acres of inventoried roadless areas in Colorado. The 4.1 million acres reflect the most updated IRA boundaries for Colorado, which incorporate planning rule revisions since 2001 on several Colorado national forests. Inventoried roadless areas that are allocated to ski area special uses (approximately 10,000 acres) would also be removed from roadless designation. Road construction and reconstruction plus timber harvesting would be prohibited in inventoried roadless areas, with some exceptions, on the Arapaho-Roosevelt, Grand Mesa-Uncompahgre, Gunnison, Manti-La Sal, Pike-San Isabel, Rio Grande, Routt, San Juan, and White River National Forests in Colorado. Exceptions to the prohibitions would be allowed for certain health, safety, valid existing rights, resource protection, and ecological management needs. Web site: http://roadless.fs.fed.us.

Timetable:

Action | Date | FR Cite
NPRM | 07/25/08 | 73 FR 43544
NPRM Comment Period End | 10/23/08
Second NPRM | 04/15/11 | 76 FR 21272
Second NPRM Comment Period End | 07/14/11

Regulatory Flexibility Analysis Required: Yes.

Agency Contact: Lorrie Parker, Regulatory Analyst, Department of Agriculture, Forest Service, ATTN: ORMS, D&R Branch, 1400 Independence Avenue SW, Washington, DC 20250-0003, Phone: 202 205-6560, Fax: 202 205-6539, E-mail: lsparker@fs.fed.us.

RIN: 0596-AC74

34. • Pest and Disease Revolving Loan Fund

Legal Authority: Pub. L. 110-234, sec 10205

Abstract: The Forest Service is proposing to amend 36 CFR part 230 to provide direction on implementing the Pest and Disease Revolving Loan Fund (Pub. L. 110-234, sec. 10205), which authorizes loans to eligible units of local governments to finance purchases of authorized equipment to monitor, remove, dispose of, and replace infested trees in quarantine areas. The proposed changes amend part 230, State and Private Forestry Assistance by adding a new subpart.

Currently, there are no Forest Service rules or regulations on providing low interest loans to local municipalities to help them manage their insect and disease infested trees; the proposed rules will provide that direction.

The proposed amendment to 36 CFR part 230 would add a subpart and will:

1. Clarify and define eligible units of local government.

2. Further define authorized equipment.

3. Describe the administrative requirements and process to apply for a loan.

4. Clarify the terms of the loan.

5. Describe repayment procedures.

6. Describe the administration of the loan program.

Timetable:

Action | Date | FR Cite
NPRM | 08/00/11

Regulatory Flexibility Analysis Required: Yes.

Agency Contact: Lorrie Parker, Regulatory Analyst, Department of Agriculture, Forest Service, ATTN: ORMS, D&R Branch, 1400 Independence Avenue SW, Washington, DC 20250-0003, Phone: 202 205-6560, Fax: 202 205-6539, E-mail: lsparker@fs.fed.us.

RIN: 0596-AC97

BILLING CODE 3410-11-P

DEPARTMENT OF AGRICULTURE (USDA)

Office of the Secretary (AgSEC)

Proposed Rule Stage

35. Biopreferred Program Guidelines Revisions

Legal Authority: Pub. L. 110-246

Abstract: The 2008 Farm Bill requires USDA to address how the BioPreferred Program will designate complex products and intermediate materials and feed stocks and make other changes to update program guidelines.

Timetable:

Action | Date | FR Cite
NPRM | 06/00/11

Regulatory Flexibility Analysis Required: Yes.

Agency Contact: Ron Buckhalt, Manager, BioPreferred Program, Office of Procurement and Property Management, Department of Agriculture, 361 Reporters Building, 300 7th Street SW, Washington, DC 20250, Phone: 202 205-4008, Fax: 202 720-8972, E-mail: ronb.buckhalt@dm.usda.gov.

RIN: 0503-AA40

DEPARTMENT OF AGRICULTURE (USDA)

Office of the Secretary (AgSEC)

Final Rule Stage

36. Designation of Biobased Items for Federal Procurement, Round 7

Legal Authority: Pub. L. 110-246

Abstract: Designates for preferred procurement bath products; concrete and asphalt cleaners, including microbial and non-microbial concrete and asphalt cleaners as subcategories; corrosion removers; dishwashing detergents; floor cleaners and protectors; hair cleaning products, including shampoos and conditioners as subcategories; microbial cleaners; oven and grill cleaners; slide way lubricants; and thermal shipping containers, including durable and non-durable thermal shipping containers as subcategories.

Timetable:

Action | Date | FR Cite
NPRM | 11/23/10 | 75 FR 71492
NPRM Comment Period End | 01/24/11
Final Action | 06/00/11

Regulatory Flexibility Analysis Required: Yes.

Agency Contact: Ron Buckhalt, Manager, BioPreferred Program, Office of Procurement and Property Management, Department of Agriculture, 361 Reporters Building, 300 7th Street SW, Washington, DC 20250, Phone: 202 205-4008, Fax: 202 720-8972, E-mail: ronb.buckhalt@dm.usda.gov.

RIN: 0503-AA36

DEPARTMENT OF AGRICULTURE (USDA)

Office of the Secretary (AgSEC)

Completed Actions

37. Voluntary Labeling Program for Designated Biobased Products

Legal Authority: Pub. L. 110-246

Abstract: The purpose of the program is to provide a “USDA Certified Biobased Product” label for use on biobased products meeting certain criteria to be established in the proposed rule, to specify those criteria for gaining use of the label, establish a system to make the label available to manufacturers and vendors of biobased products, and to establish the labeling program.

Completed:

Reason | Date | FR Cite
Final Action | 01/20/11 | 76 FR 3789

Regulatory Flexibility Analysis Required: Yes.

Agency Contact: Ron Buckhalt, Phone: 202 205-4008, Fax: 202 720-8972, E-mail: ronb.buckhalt@dm.usda.gov.

RIN: 0503-AA35

38. Designation of Biobased Items for Federal Procurement

Legal Authority: Pub. L. 110-246

Abstract: USDA revisions to federal procurement biobased guidelines.

Completed:

Reason | Date | FR Cite
NPRM | 02/04/11 | 76 FR 6366
Final Action | 02/04/11 | 76 FR 6319

Regulatory Flexibility Analysis Required: Yes.

Agency Contact: Ron Buckhalt, Phone: 202 205-4008, Fax: 202 720-8972, E-mail: ronb.buckhalt@dm.usda.gov.

RIN: 0503-AA39

[FR Doc. 2011-15473 Filed 7-6-11; 8:45 am]

BILLING CODE 3410-90-P